NUCLEAR REGULATORY COMMISSION

[NRC-2016-0192]

Service Level I, II, III, and In-Scope License Renewal Protective Coatings Applied to Nuclear Power Plants

AGENCY: Nuclear Regulatory Commission.

ACTION: Regulatory guide, issuance.

SUMMARY: The U.S. Nuclear Regulatory Commission (NRC) is issuing Revision 3 of Regulatory Guide (RG) 1.54, “Service Level I, II, III, and In-Scope License Renewal Protective Coatings Applied to Nuclear Power Plants.” This RG describes a method the staff of the U.S. Nuclear Regulatory Commission (NRC) considers acceptable for the selection, application, qualification, inspection, and maintenance of protective coatings applied to nuclear power plants (NPPs).

DATES: Revision 3 of RG 1.54 is available on April 25, 2017.

ADDRESSES: Please refer to Docket ID NRC-2016-0192 when contacting the NRC about the availability of information regarding this document. You may obtain publicly-available information related to this document using any of the following methods:

• Federal Rulemaking Web site: Go to http://www.regulations.gov and search for Docket ID NRC-2016-0192. Address questions about NRC dockets to Carol Gallagher; telephone: 301-415-3463; email: Carol.Gallagher@nrc.gov. For technical questions, contact the individuals listed in the FOR FURTHER INFORMATION CONTACT section of this document.

• NRC's Agencywide Documents Access and Management System (ADAMS): You may obtain publicly available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that a document is referenced. Revision 3 of RG 1.54 and the regulatory analysis may be found in ADAMS under Accession numbers ML17031A288 and ML16070A091 respectively.

• NRC's PDR: You may examine and purchase copies of public documents at the NRC's PDR, Room O1-F21, One White Flint North, 11555 Rockville Pike, Rockville, Maryland 20852.

Regulatory guides are not copyrighted, and the NRC's approval is not required to reproduce them.

FOR FURTHER INFORMATION CONTACT: Matthew G. Yoder, Office of Nuclear Reactor Regulation, telephone: 301-415-4017, email: Matthew.Yoder@nrc.gov; and Mark Orr, Office of Nuclear Regulatory Research, telephone: 301-415-6003, email: Mark.Orr@nrc.gov. U.S. Nuclear Regulatory Commission, Washington, DC 20555-0001.

SUPPLEMENTARY INFORMATION:

I. Introduction

The NRC is issuing a revision to an existing guide in the NRC's “Regulatory Guide” series. This series was developed to describe and make available to the public information regarding methods that are acceptable to the NRC staff for implementing specific parts of the agency's regulations, techniques that the NRC staff uses in evaluating specific issues or postulated events, and data that the NRC staff needs in its review of applications for permits and licenses.

Revision 3 of RG 1.54 was issued with a temporary identification of Draft Regulatory Guide, DG-1331. The purpose of issuing this RG is to endorse, with certain clarifications and exceptions, the use of American Society for Testing and Materials (ASTM International) Standard D 5144-08 (2016), “Standard Guide for Use of Protective Coating Standards in Nuclear Power Plants,” and multiple sub-tier ASTM International standards. ASTM International, standard D 5144-08 (2016) was issued in 2008 to provide a common basis on which protective coatings for the surfaces of nuclear power generating facilities may be qualified and selected through reproducible evaluation tests. This revision also expands the scope of this RG to address aging management of internal coatings and linings on components within the scope of license renewal under part 54 of title 10 of the Code of Federal Regulations (10 CFR).

Copies of the ASTM International standards identified in revision 3 of RG 1.54 are available for purchase from ASTM International, 100 Barr Harbor Drive, P.O. Box C700, West Conshohocken, Pennsylvania 19428-2959; telephone: 610-832-9585. Purchase information is also available through the ASTM Web site at http://www.astm.org.

II. Additional Information

The NRC published a notice of the availability of DG-1331 in the Federal Register on September 13, 2016, (81 FR 62935) for a 60-day public comment period. The public comment period closed on November 14, 2016. Public comments on DG-1331 and the NRC's responses to the public comments are available in ADAMS under Accession No. ML17031A299.

III. Congressional Review Act

This regulatory guide is a rule as defined in the Congressional Review Act (5 U.S.C. 801-808). However, the Office of Management and Budget has not found it to be a major rule as defined in the Congressional Review Act.

IV. Backfitting and Issue Finality

Revision 3 of RG 1.54 endorses, with certain clarifications and exceptions, the use of ASTM International Standard D 5144-08 (2016), “Standard Guide for Use of Protective Coating Standards in Nuclear Power Plants,” and multiple sub-tier ASTM International standards. The ASTM International Standard D 5144-08 (2016) was issued to provide a common basis on which protective coatings for the surfaces of nuclear power generating facilities may be qualified and selected through reproducible evaluation tests. This revision also expands the scope to include internal coatings and linings on components within the scope of license renewal. In addition, the NRC made some clarifications and format changes that did not change the intent of the guidance.

RG 1.54 Revision 3 may be applied to current applications for operating licenses, combined licenses, early site permits, and certified design rules docketed by the NRC as of the date of issuance of the final RG, as well as future applications submitted after the issuance of the RG. Such action would not constitute backfitting as defined in section 50.109(a)(1) of title 10 of the Code of Federal Regulations (10 CFR), or be otherwise inconsistent with the applicable issue finality provision in 10 CFR part 52. Neither the Backfit Rule nor the issue finality provisions under 10 CFR part 52, with certain exclusions discussed below, were intended to apply to every NRC action that substantially changes the expectations of current and future applicants.

The exceptions to this general principle are applicable whenever a combined license applicant references a 10 CFR part 52 license (e.g., an early site permit) or NRC regulatory approval (e.g., a design certification rule) with specified issue finality provisions. The NRC does not, at this time, intend to impose the positions represented in Revision 3 of RG 1.54 on combined license applicants in a manner that is inconsistent with any issue finality provisions. If, in the future, the NRC seeks to impose a position in Revision 3 of RG 1.54 in a manner that does not provide issue finality as described in the applicable issue finality provision, then the NRC must address the criteria for avoiding issue finality as described in the applicable issue finality provision.

Dated at Rockville, Maryland, this 19th day of April 2017.
For the Nuclear Regulatory Commission.
Thomas H. Boyce,
Chief, Regulatory Guidance and Generic Issues Branch, Division of Engineering, Office of Nuclear Regulatory Research.

[FR Doc. 2017-08363 Filed 4-24-17; 8:45 am]

BILLING CODE 7590-01-P